DEPARTMENT OF HOMELAND SECURITY

Coast Guard

[Docket Number USCG-2018-0193]

Polar Security Cutter Program; Notice of Availability of Final Programmatic Environmental Impact Statement

AGENCY: Coast Guard, DHS.

ACTION: Notice of availability.

SUMMARY: The U.S. Coast Guard, as lead agency, announces the availability of the final Programmatic Environmental Impact Statement (EIS) in accordance with the National Environmental Policy Act (NEPA) for the Polar Security Cutter Program's design, build, and operation of up to six polar security cutters (PSC).

DATES: The U.S. Coast Guard will not issue a final decision on the proposal for a minimum of 30 days after the date on which the Environmental Protection Agency (EPA) publishes its Notice of Availability (NOA) of the final EIS in the Federal Register.

ADDRESSES: Copies of the final EIS have been sent to affected Federal, State, and local governments; public libraries in the Project area; and interested parties that previously requested a copy. The final EIS and other supporting documents will be published in the docket at https://www.regulations.gov/docket?D=USCG-2018-0193 and also on the following U.S. Coast Guard website: https://www.dcms.uscg.mil/Portals/10/CG-9/Acquisition%20PDFs/CG_PSC_Final%20PEIS_05%20Feb%202019.pdf?ver=2019-02-08-121637-803&timestamp=1549650805158.

FOR FURTHER INFORMATION CONTACT: If you have questions about this notice of availability, email Ms. Christine Wiegand, Assistant Program Manager, Polar Security Cutter Program, U.S. Coast Guard; email PIBEnvironment@uscg.mil.

SUPPLEMENTARY INFORMATION:

Table of Abbreviations

CFR Code of Federal Regulations

CGC Coast Guard Cutter

DHS Department of Homeland Security

EIS Environmental Impact Statement

FR Federal Register

NEPA National Environmental Policy Act

PIBs Polar Icebreakers

PSCs Polar Security Cutters

U.S.C. United States Code

Background and Purpose

The Final EIS was prepared in accordance with the requirements of NEPA; the CEQ regulations implementing NEPA (40 CFR 1500-1508); DHS procedures for implementing NEPA (DHS Instruction Manual 023-01-001-01 (series)), U.S. Coast Guard procedures for implementing NEPA (COMDTINST 16475.1(series)); and other applicable DHS and U.S. Coast Guard policies and guidance. A Notice of Intent (NOI) to prepare the EIS was published in the Federal Register on April 26, 2018 (83 FR 18319) and the Notice of Availability (NOA) of the Draft EIS was published in the Federal Register on August 6, 2018 (83 FR 38317). The U.S. Coast Guard is the lead agency for the proposed action.

The purpose of the proposed action is to design, build, and operate new PSCs to carry out the U.S. Coast Guard's primary missions supported by the current polar icebreaker fleet. Expected missions include Ice Operations, Defense Readiness, Aids to Navigation, Living Marine Resources, Marine Safety, Marine Environmental Protection, Other Law Enforcement, Ports, Waterways, and Coastal Security, and Search and Rescue.

The U.S. Coast Guard's current fleet of PIBs consists of two heavy icebreakers, Coast Guard Cutter (CGC) POLAR STAR and CGC POLAR SEA, and one medium icebreaker, CGC HEALY. The U.S. Coast Guard's heavy icebreakers have both exceeded their designed 30 year service life. The current PSC program acquisition strategy is approved to construct up to three heavy PSCs and may (at a future date) potentially expand to include up to three medium icebreakers, with planned service design lives of 30 years each. The first of these new PSCs is expected to delivered in 2023. Because the first new PSC would not be operational in the Polar Regions until at least 2023, new information may become available after the completion of this EIS. In that case, supplemental NEPA documentation may, as appropriate, be prepared in support of individual proposed actions. Examples of new information may include, but are not limited to, changes to a species listing status or any other applicable laws and directives, and information regarding mission, training, homeporting, maintenance, and eventual decommissioning of the new PSCs.

In executing its various missions, the U.S. Coast Guard protects the public, the environment, and U.S. economic and security interests in any maritime region, including international waters and the Nation's coasts, ports, and inland waterways, as required to support national security. Legislation and executive orders assign the U.S. Coast Guard a wide range of responsibilities applicable to Polar Regions. The U.S. Coast Guard derives its authority for the use of icebreaking from several statutes governing execution of its missions. These include: 14 U.S.C. 541 (previously 14 U.S.C. 81) ¹ Coast Guard establishment, maintenance, and operation of aids to navigation; 14 U.S.C. 521 (previously 14 U.S.C. 88) Coast Guard saving of life and property; 14 U.S.C. 522 (previously 14 U.S.C. 89) Coast Guard law enforcement; 14 U.S.C. 716 (previously 14 U.S.C. 90) Arctic maritime transportation; 14 U.S.C. 527 (previously 14 U.S.C. 91) controlling anchorage and movement of vessels; 14 U.S.C. 715 (previously 14 U.S.C. 94) conduct oceanographic research; and 14 U.S.C. 701 (previously 14 U.S.C. 141) cooperation with agencies, States, territories, and others. In addition, Executive Order 7521 (Use of Vessels for Icebreaking in Channels and Harbors), 1 FR 2184, Dec. 24, 1936, directs the U.S. Coast Guard to assist in keeping channels and harbors open to navigation by means of icebreaking operations.

¹ The Frank LoBiondo Coast Guard Authorization Act of 2018 (Pub. L. 115-282), enacted December 4, 2018, redesignated many existing sections within Title 14 of the United States Code.

In accordance with NEPA, the U.S. Coast Guard prepared an EIS analyzing the potential impacts of up to six new PSCs, as this is the maximum number anticipated to be operational in the Polar Regions under the current PSC program acquisition strategy. A lesser number of icebreakers is expected to result in a similar or reduced impact than what will be discussed and evaluated in the EIS. Potential environmental stressors include acoustic (underwater acoustic transmissions, vessel noise, icebreaking noise, aircraft noise, and gunnery noise), and physical (vessel movement, aircraft or in-air device movement, in-water device movement, icebreaking, and marine expended materials).

The Final EIS has considered three alternatives:

• The No Action Alternative included use of the existing assets to fulfil Coast Guard missions, which are reaching the end of their service lives.

• Alternative 1 (Preferred Alternative) included the design and build up to six polar icebreakers to fulfill mission requirements in the Arctic and Antarctic.

• Alternative 2 included various forms of icebreaker leasing, such as those leases used by the United States Navy, the National Science Foundation, other federal agencies, and the domestic maritime industry, to close the Coast Guard icebreaking capability gap.

The Final EIS addresses potential environmental impacts under each alternative associated with physical, biological, and socioeconomic environmental resources. The analysis addresses direct and indirect impacts, and accounts for cumulative impacts from other foreseeable federal, state, or local activities in the proposed action area. The U.S. Coast Guard conducted a scoping process to identify community concerns and local issues that should be addressed in the EIS, as well as gathered public comments on the Draft EIS following its release in August 2018. The Coast Guard considered the public comments we received when drafting the Final EIS. The changes between the draft EIS and the Final EIS are identified and described in Appendix C of the Final EIS, which can be found at one of the locations in the ADDRESSES section.

The Final EIS identifies minor to moderate adverse impacts associated with the proposed action that would be mitigated by the implementation of standard operating procedures and best management practices. An increase in the Coast Guard icebreaking fleet would be beneficial because Coast Guard support would readily available during an at-sea emergiencies to commercial fishing, recreational fishing, transportation and shipping, tourism, and cultural resources and the communities that depend on them. The Final EIS has been distributed to various federal, state, and local agencies, as well as other interested individuals and organizations.

Following a 30-day waiting period, after publication of the NOA in the Federal Register, the U.S. Coast Guard will announce its Record of Decision which will be published in the Federal Register.

This notice is issued under authority of 5 U.S.C. 552(a).

Timothy J. Connors,
Captain, U.S. Coast Guard, Program Manager, Polar Security Cutter Program.

[FR Doc. 2019-02550 Filed 2-14-19; 8:45 am]

BILLING CODE 9110-04-P